FEDERAL FINANCIAL INSTITUTIONS EXAMINATION COUNCIL

[Docket No. AS24-17]

Appraisal Subcommittee Notice of Meeting

AGENCY: Appraisal Subcommittee of the Federal Financial Institutions Examination Council

ACTION: Notice of special closed meeting.

SUMMARY: In accordance with section 1104(b) of title XI of the Financial Institutions Reform, Recovery, and Enforcement Act of 1989, as amended (title XI), notice is hereby given that the Appraisal Subcommittee (ASC) met for a Special Closed Meeting on these dates.

Location: Virtual meeting via Teams

Date: July 10, 2024

Time: 10:45 a.m. ET

Location: Virtual meeting via Teams

Date: August 14, 2024

Time: 11:00 a.m. ET

Location: Virtual meeting via Teams

Date: September 4, 2024

Time: 11:15 a.m. ET

Action and Discussion Item

Personnel Matter

The ASC convened a Special Closed Meeting to discuss a personnel matter pursuant to section 1104(b) of Title XI (12 U.S.C. 3333(b)). No action was taken by the ASC.

Loretta Schuster,
Management & Program Analyst.

[FR Doc. 2024-20607 Filed 9-10-24; 8:45 am]

BILLING CODE 6700-01-P